DEPARTMENT OF JUSTICE

Antitrust Division

Notice Pursuant to the National Cooperative Research and Production Act of 1993—Customer Experience Hub

Notice is hereby given that, on July 1, 2025, pursuant to section 6(a) of the National Cooperative Research and Production Act of 1993, 15 U.S.C. 4301 et seq. (“the Act”), The Customer Experience Hub (“CX Hub”) has filed written notifications simultaneously with the Attorney General and the Federal Trade Commission disclosing changes in its membership. The notifications were filed for the purpose of extending the Act's provisions limiting the recovery of antitrust plaintiffs to actual damages under specified circumstances.

Specifically, Allegheny-Singer Research Institute dba Highmark Health Research Institute, Pittsburgh, PA; AeroClenz, Inc., Fort Myers, FL; Allucent Government Services (US) LLC, Cary, NC; American Society of Clinical Oncology, Inc., Alexandria, VA; AstraZeneca Pharmaceuticals LP, Washington, DC; BelleTorus Corp., Cambridge, MA; BioImaginix LLC, Morgantown, WV; BioMedSA, San Antonio, TX; Bold Insight, Inc., Downers Grove, IL; Bracane Company, Plano, TX; Building Healthier America, Hudson, WI; Consuli, Inc., San Diego, CA; Digital Infuzion LLC, Rockville, MD; DLH LLC, Bethesda, MD; Elizabeth Glaser Pediatric AIDS Foundation, Washington, DC; Fralin Biomedical Research Institute at VTC, Roanoke, VA; Genomic Expression, Inc., Beverly, MA; Georgia Life Sciences, Atlanta, GA; Hello Heart, Inc., Menlo Park, CA; Humano Tech, Inc., Atlanta, GA; International Consulting Associates, Inc., Arlington, VA; linedanceAI, Richardson, TX; LivAi, Inc., San Francisco, CA; Massive Bio, Inc., New York, NY; Medblocks, Inc., Bengaluru, REPUBLIC OF INDIA; OpenOme, Inc. dba OpenCures, Novato, CA; Pancreatic Cancer Action Network, El Segundo, CA; Probably Genetic, Inc., San Francisco, CA; Progeneer, Inc., Seoul, REPUBLIC OF KOREA; Reinvent Health Information Technology LLC, Lexington, KY; Surgo Health P.B.C, Washington, DC; TrialAssure, Inc., Canton, MI; Unicorn Biotechnologies, Inc., Newark, NJ; University of South Carolina, Columbia, SC; Upstream Thinking LLC, Austin, TX; Veridat LLC, Toledo, OH; Viinetwork, Inc. dba Hiive Health, Washington, DC; and WHOOP, Inc., Boston, MA have been added as parties to this venture.

No other changes have been made in either the membership or planned activity of the group research project. Membership in this group research project remains open, and the CX Hub intends to file additional written notifications disclosing all changes in membership.

On January 11, 2024, the CX Hub filed its original notification pursuant to section 6(a) of the Act. The Department of Justice published a notice in the Federal Register pursuant to section 6(b) of the Act on April 16, 2024 (89 FR 26929).

The last notification was filed with the Department on April 1, 2025. A notice was published in the Federal Register pursuant to section 6(b) of the Act on June 13, 2025 (90 FR 25082).

Suzanne Morris,
Deputy Director Civil Enforcement Operations, Antitrust Division.

[FR Doc. 2025-24167 Filed 12-31-25; 8:45 am]

BILLING CODE P